CONSUMER PRODUCT SAFETY COMMISSION

16 CFR Chapter II

[Docket No. CPSC-2010-0087]

Petition Requesting Regulations Restricting Cadmium in Children's Products

AGENCY: Consumer Product Safety Commission.

ACTION: Notice.

SUMMARY: The Consumer Product Safety Commission (“Commission” or “CPSC” or “we”) has received a petition requesting standards restricting cadmium in children's products, especially toy metal jewelry. On September 6, 2011, the Commission granted the petition and directed CPSC staff to begin drafting a proposed rule unless a voluntary standard for cadmium in children's jewelry is published by ASTM International, Inc. (“ASTM”) within three months after September 16, 2011. If a voluntary standard for cadmium in children's jewelry is published by ASTM within this timeframe, then CPSC staff is directed to assess the adequacy of the voluntary standard and whether there is substantial compliance with the voluntary standard and based on these assessments make a recommendation on the disposition of this petition within nine months after September 16, 2011.

In addition, the Commission granted the petition and directed CPSC staff to begin drafting a proposed rule unless a voluntary standard for cadmium in children's toy jewelry is published by ASTM within three months after September 16, 2011. If a voluntary standard for cadmium in children's toy jewelry is published by ASTM within this timeframe, then CPSC staff is directed to assess the adequacy of the voluntary standard and whether there is substantial compliance with the voluntary standard and based on these assessments make a recommendation on the disposition of this petition within nine months after September 16, 2011.

FOR FURTHER INFORMATION CONTACT: Rocky Hammond, Office of the Secretary, Consumer Product Safety Commission, 4330 East West Highway, Bethesda, MD, 20814; telephone (301) 504-6833, e-mail: rhammond@cpsc.gov.

SUPPLEMENTARY INFORMATION: On May 28, 2010, the Empire State Consumer Project, Sierra Club, Center for Environmental Health, and the Rochesterians Against the Misuse of Pesticides (“petitioners”) submitted a petition stating that the Commission should issue regulations to ban cadmium in all toy jewelry under the Federal Hazardous Substances Act (“FHSA”), 15 U.S.C. 1261 et seq. The request was docketed under the FHSA as Petition No. HP 10-2.

Petitioners requested that the Commission adopt regulations declaring that any toy metal jewelry containing more than trace amounts of cadmium by weight, which could be ingested by children, be declared a banned hazardous substance. If the Commission finds that it lacks sufficient information to determine the appropriate level of cadmium in products, petitioners requested that the Commission, as an interim measure, adopt the maximum levels established for lead. In addition, petitioners requested a test method based on total cadmium, which simulates a child chewing the jewelry before swallowing, by cutting the metal jewelry in half, and evaluating the extractability of cadmium from children's metal jewelry based on a 24-hour acid extraction period. Petitioners also asserted that if the CPSC has insufficient information regarding cadmium, it should obtain additional information under the Interagency Testing Commission (“ITC”) through the Toxic Substances Control Act (“TSCA”) administered by the Environmental Protection Agency (“EPA”) to include metal jewelry in the scope of reporting under section 8(d) of the TSCA and require importers and processers to test toy metal jewelry for cadmium.

On February 16, 2011, the Commission voted unanimously to defer its decision on the petition for six months and directed CPSC staff to participate in the ASTM subcommittees. Specifically, the Commission directed staff to participate in the ASTM F15.24 subcommittee to develop a voluntary standard addressing accessible cadmium from children's metal jewelry and to work with the ASTM F15.22 subcommittee on the ASTM F963 standard with respect to toy jewelry.

On August 30, 2011, CPSC staff provided the Commission with an update regarding the voluntary standards activities under the ASTM subcommittees that would address cadmium in children's jewelry and toy jewelry. The update is available on the CPSC Web site at: http://www.cpsc.gov/LIBRARY/FOIA/FOIA11/brief/cadmiumpetupd.pdf. CPSC staff indicated that the work on those standards was expected to be completed in 2011.

On September 6, 2011, by a 3-2 vote,¹ the Commission granted the petition and directed CPSC staff to begin drafting a proposed rule unless a voluntary standard for cadmium in children's jewelry is published by ASTM within three months after September 16, 2011. If a voluntary standard for cadmium in children's jewelry is published by ASTM within this timeframe, then CPSC staff is directed to assess the adequacy of the voluntary standard and whether there is substantial compliance with the voluntary standard and based on these assessments make a recommendation on the disposition of this petition within nine months after September 16, 2011.

¹ Chairman Inez M. Tenenbaum and Commissioners Thomas H. Moore and Robert S. Adler voted to take this action. Commissioners Nancy A. Nord, and Anne M. Northup voted to defer the petition (HP10-2) for an additional six months and direct staff to continue its participation in the ASTM F15.24 subcommittee to develop a voluntary standard addressing accessible cadmium from children's metal jewelry, as well as continue its participation in the ASTM F15.22 subcommittee to amend the ASTM F963 toy safety standard. Chairman Tenenbaum and Commissioner Nord issued statements which are available at http://www.cpsc.gov/PR/statements.html.

In addition, the Commission granted the petition and directed CPSC staff to begin drafting a proposed rule unless a voluntary standard for cadmium in children's toy jewelry is published by ASTM within three months after September 16, 2011. If a voluntary standard for cadmium in children's toy jewelry is published by ASTM within this timeframe, then CPSC staff is directed to assess the adequacy of the voluntary standard and whether there is substantial compliance with the voluntary standard and based on these assessments make a recommendation on the disposition of this petition within nine months after September 16, 2011.

The Commission further directed CPSC staff to issue a notice in the Federal Register announcing the outcome of the vote and status of the petition. Thus, this notice announces the vote that occurred on September 6, 2011, the actions that the Commission directed CPSC staff to take, and the status of the petition.

Dated: September 13, 2011.
Todd A. Stevenson,
Secretary, Consumer Product Safety Commission.

[FR Doc. 2011-23810 Filed 9-15-11; 8:45 am]

BILLING CODE 6355-01-P